FEDERAL RESERVE SYSTEM

Agency Information Collection Activities: Proposed Collection; Comment Request

AGENCY: Board of Governors of the Federal Reserve System

SUMMARY:

Background

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for Comment on Information Collection Proposal

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected; and

d. Ways to minimize the burden of information collection on respondents, including through the use of automated collection techniques or other forms of information technology.

DATES: Comments must be submitted on or before May 21, 2001.

ADDRESSES: Comments, which should refer to the OMB control number or agency form number, should be addressed to Jennifer J. Johnson, Secretary, Board of Governors of the Federal Reserve System, 20th and C Streets, NW., Washington, DC 20551, or mailed electronically to regs.comments@federalreserve.gov. Comments addressed to Ms. Johnson may be delivered to the Board's mailroom between 8:45 a.m. and 5:15 p.m., and to the security control room outside of those hours. Both the mailroom and the security control room are accessible from the courtyard entrance on 20th Street between Constitution Avenue and C Street, NW. Comments received may be inspected in room M-P-500 between 9 a.m. and 5 p.m., except as provided in § 261.14 of the Board's Rules Regarding Availability of Information, 12 CFR 261.14(a).

A copy of the comments may also be submitted to the OMB desk officer for the Board: Alexander T. Hunt, Office of Information and Regulatory Affairs, Office of Management and Budget, New Executive Office Building, Room 3208, Washington, DC 20503.

FOR FURTHER INFORMATION CONTACT: A copy of the proposed form and instructions, the Paperwork Reduction Act Submission (OMB 83-I), supporting statement, and other documents that will be placed into OMB's public docket files once approved may be requested from the agency clearance officer, whose name appears below. Mary M. West, Federal Reserve Board Clearance Officer (202-452-3829), Division of Research and Statistics, Board of Governors of the Federal Reserve System, Washington, DC 20551. Telecommunications Device for the Deaf (TDD) users may contact Capria Mitchell (202) 872-4984, Board of Governors of the Federal Reserve System, Washington, DC 20551.

Proposal to Approve Under OMB Delegated Authority the Extension for Three Years, Without Revision, of the Following Reports

1. Report title: Notice of Proposed Stock Redemption.

Agency form number: FR 4008.

OMB control number: 7100-0131.

Frequency: On occasion.

Reporters: Bank holding companies.

Annual reporting hours: 310 hours.

Estimated average hours per response: 15.5 hours.

Number of respondents: 20.

Small businesses are not affected.

General description of report: This information collection is mandatory (12 U.S.C. 1844(c)) and is not given confidential treatment.

Abstract: The Federal Reserve System requires a bank holding company (BHC), other than a well-run company, to give written notice to its District Federal Reserve Bank before purchasing or redeeming its equity securities (collectively, redeeming or redemption) if the consideration paid for the proposed redemption and other redemptions over the preceding twelve months is 10 percent or more of the company's consolidated net worth. There is no reporting form; the BHC notifies the Federal Reserve by letter prior to making the proposed redemption. The Federal Reserve uses the information to fulfill its statutory obligation to supervise bank holding companies.

2. Report title: Notice Claiming Status as an Exempt Transfer Agent.

Agency form number: FR 4013.

OMB control number: 7100-0137.

Frequency: On occasion.

Reporters: Banks, bank holding companies, and trust companies.

Annual reporting hours: 12 hours.

Estimated average hours per response: 2 hours.

Number of respondents: 6.

Small businesses are affected.

General description of report: This information collection is voluntary (15 U.S.C. 78q-1(c)(1)) and is not given confidential treatment.

Abstract: Banks, bank holding companies, and trust companies subject to the Federal Reserve's supervision that are low-volume transfer agents voluntarily file the FR 4013 notice on occasion with Federal Reserve Board. Transfer agents are institutions that provide securities transfer, registration, monitoring, and other specified services on behalf of securities issuers. The purpose of the notice, which is effective until the agent withdraws it, is to claim exemption from certain rules and regulations of the Securities and Exchange Commission (SEC). The Federal Reserve uses the notices for supervisory purposes because the SEC has assigned to the Federal Reserve responsibility for collecting the notices and verifying their accuracy through examinations of the respondents. The notice is made by letter; there is no reporting form.

3. Report title: Survey to Obtain Information on the Relevant Market in Individual Merger Cases.

Agency form number: FR 2060.

OMB control number: 7100-0232.

Frequency: On occasion.

Reporters: Small businesses and consumers.

Annual reporting hours: 37 hours.

Estimated average hours per response: 10 minutes for small businesses, 6 minutes for consumers.

Number of respondents: 25 small businesses and 50 consumers per survey.

Small businesses are affected.

General description of report: This information collection is voluntary (12 U.S.C. 1817(j), 1828 (c), and 1841 et seq.) and is given confidential treatment (5 U.S.C. 552(b)(4) and (b)(6)).

Abstract: The Federal Reserve uses this telephone survey to determine the sources from which small businesses and consumers in a particular geographical area obtain financial services. The information is needed for specific merger and acquisition applications to determine relevant banking markets in the analysis of local market competition.

Proposal to Approve Under OMB Delegated Authority the Extension for Three Years, With Revision, of the Following Reports

1. Report title: Weekly Report of Assets and Liabilities for Large Banks.

Agency form number: FR 2416.

OMB control number: 7100-0075.

Frequency: Weekly.

Reporters: U.S.-chartered commercial banks.

Annual reporting hours: 18,850 hours.

Estimated average hours per response: 7.25 hours.

Number of respondents: 50.

Small businesses are not affected.

General description of report: This information collection is voluntary (12 U.S.C. 225(a) and 248(a)(2)) and is given confidential treatment (5 U.S.C. 552(b)(4)).

2. Report title: Weekly Report of Selected Assets.

Agency form number: FR 2644.

OMB control number: 7100-0075.

Frequency: Weekly.

Reporters: U.S.-chartered commercial banks.

Annual reporting hours: 66,924 hours.

Estimated average hours per response: 1.17 hours.

Number of respondents: 1,100.

Small businesses are affected.

General description of report: This information collection is voluntary (12 U.S.C. 225(a) and 248(a)(2)) and is given confidential treatment (5 U.S.C. 552(b)(4)).

3. Report title: Weekly Report of Assets and Liabilities for Large U.S. Branches and Agencies of Foreign Banks.

Agency form number: FR 2069.

OMB control number: 7100-0030.

Frequency: Weekly.

Reporters: U.S. branches and agencies of foreign (non-U.S.) banks.

Annual reporting hours: 27,891 hours.

Estimated average hours per response: 5.83 hours.

Number of respondents: 92.

Small businesses are not affected.

General description of report: This information collection is voluntary (12 U.S.C. 3105(b)(2)) and is given confidential treatment (5 U.S.C. 552(b)(4)).

Abstract: The FR 2416 is a detailed, 47 item balance sheet that covers domestic offices of large U.S. chartered commercial banks. The FR 2644 collects 17 items covering investments and loans plus total assets and three memorandum items, two that disaggregate total borrowings between bank and nonbank sources and one for mortgage-backed securities. The FR 2069 is a detailed, 29 item balance sheet that covers large U.S. branches and agencies of foreign banks. These reports are collected as of each Wednesday.

These three voluntary reports are mainstays of the Federal Reserve's reporting system from which data for analysis of current banking developments are derived. The FR 2416 is used on a standalone basis as the “large domestic bank series.” The other two reports are samples for estimating outstandings for the universe, using data for benchmarks from the quarterly commercial bank Consolidated Reports of Condition and Income (FFIEC 031-034; OMB No. 7100-0036) and the Report of Assets and Liabilities of U.S. Branches and Agencies of Foreign Banks (FFIEC 002; OMB No. 7100-0032) (Call Reports). Data from all three reports, together with data from other sources, are used for constructing weekly estimates of bank credit, of sources and uses of bank funds, and of a balance sheet for the banking system as a whole. These estimates are used in constructing the bank credit component of the domestic nonfinancial debt aggregate.

The Federal Reserve publishes the data in aggregate form in a statistical release that is followed closely by other government agencies, the banking industry, the financial press, and other users. This weekly H.8 statistical release, “Assets and Liabilities of Commercial Banks in the United States,” provides a balance sheet for the banking industry as a whole and disaggregated by its large domestic, small domestic, and foreign related components.

Current Actions: The Federal Reserve proposes to revise the FR 2416 and FR 2644 to conform with the March 31, 2001, and June 30, 2001, changes to the Consolidated Reports of Condition and Income (Call Report) (proposed FFIEC 031/041; OMB No. 7100-0036). These proposed changes to the FR 2416 and FR 2644 would be effective with the reports for July 4, 2001. The Federal Reserve will work with individual respondents that wish to implement the changes early due to reprogramming their systems for the March Call Report changes. The Federal Reserve also proposes to conform the FR 2069, beginning with the report for July 4, 2001, to changes, eliminations and reductions in detail on the Report of Assets and Liabilities of U.S. Branches and Agencies of Foreign Banks (FFIEC 002; OMB No. 71000032) effective June 30, 2001.

In addition to these revisions, on the FR 2416, The Federal Reserve proposes a minor redefinition of “Commercial real estate loans” to include loans secured by farmland. The Federal Reserve determined that real estate loans secured by farmland, currently reported in “All other loans secured by real estate,” are used primarily for the financing of land for production (a commercial purpose), rather than for financing the improvements on the land, such as farmhouses. Thus, the bulk of farm real estate loans have a commercial, rather than a residential, character.

Board of Governors of the Federal Reserve System, March 14, 2001.
Jennifer J. Johnson,
Secretary of the Board.

[FR Doc. 01-6778 Filed 3-19-01; 8:45 am]

BILLING CODE 6210-01-P